DEPARTMENT OF EDUCATION

Notice of Proposed Information Collection Requests

AGENCY: Department of Education.

ACTION: Correction notice.

SUMMARY: On April 16, 2002, a notice inviting comment from the public, was published for “National Longitudinal Transition Study—2 (NLTS2)” in the Federal Register (67 FR 18596). On page 18596, in the second column, 10th line from the bottom of the column, Type of Review should read, “Reinstatement”. The Leader, Regulatory Information Management, Office of the Chief Information Officer, hereby issues a correction notice as required by the Paperwork Reduction Act of 1995.

Dated: April 16, 2002.
John D. Tressler,
Leader, Regulatory Information Management Group, Office of the Chief Information Officer.

[FR Doc. 02-9632 Filed 4-18-02; 8:45 am]

BILLING CODE 4000-01-P